DEPARTMENT OF ENERGY

Federal Energy Regulatory Commission

[Project No. 9282-034]

37 Wilton Road, Milford LLC, and 282 Route 101 LLC, PVM Commercial Center, LLC; Notice of Application For Transfer of License, and Soliciting Comments and Motions To Intervene

On December 19, 2012, 37 Wilton Road, Milford LLC, and 282 Route 101 LLC (transferors) and PVM Commercial Center, LLC (transferee) filed an application for transfer of license for the Pine Valley Project, FERC No. 9282, located on the Souhegan River in Hillsborough County, New Hampshire.

Applicants seek Commission approval to transfer the license for the Pine Valley Project from 37 Wilton Road, Milford LLC, and 282 Route 101 LLC, to PVM Commercial Center, LLC.

Applicants' Contact: For transferors: Mr. Mark Prolman, 37 Wilton Road, Milford LLC and 282 Route 101 LLC, 100 Elm Street, Nashua, NH 03060, telephone (603) 880-6655. For transferee: Mr. Marc Daigle, PVM Commercial Center, LLC, 1264 Main Street, Waltham, MA 02451, telephone (781) 899-4002.

FERC Contact: Patricia W. Gillis (202) 502-8735, patricia.gillis@ferc.gov.

Deadline for filing comments and motions to intervene: 15 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street, NE., Washington, DC 20426. More information about this project can be viewed or printed on the eLibrary link of Commission's Web site at http://www.ferc.gov/docs-filing/elibrary.asp. Enter the docket number (P-9282) in the docket number field to access the document. For assistance, call toll-free 1-866-208-3372.

Dated: December 21, 2012.
Kimberly D. Bose,
Secretary.

[FR Doc. 2013-00026 Filed 1-4-13; 8:45 am]

BILLING CODE 6717-01-P